DEPARTMENT OF COMMERCE

International Trade Administration

A-351-605

Notice of Rescission of Changed Circumstances Antidumping Duty Administrative Review: Frozen Concentrated Orange Juice from Brazil

AGENCY: Import Administration, International Trade Administration, Department of Commerce.

EFFECTIVE DATE: April 13, 2005.

FOR FURTHER INFORMATION CONTACT: Elizabeth Eastwood or Jill Pollack, Import Administration, International Trade Administration, U.S. Department of Commerce, 14th Street and Constitution Avenue, NW, Washington, DC 20230; telephone (202) 482-3874 and (202) 482-4593, respectively.

SUPPLEMENTARY INFORMATION:

Background:

On May 5, 1987, the Department published in the Federal Register an antidumping duty order on frozen concentrated orange juice (FCOJ) from Brazil covering all Brazilian producers except Sucocitrico Cultrale, S.A. See Antidumping Duty Order of Sales at Less than Fair Value: Frozen Concentrated Orange Juice from Brazil, 52 FR 16426 (May 5, 1987).

On January 19, 2005, the Department initiated a changed circumstances administrative review of the antidumping duty order on FCOJ from Brazil at the request of Louis Dreyfus Citrus Inc., (Louis Dreyfus). See Frozen Concentrated Orange Juice from Brazil; Initiation of Changed Circumstances Antidumping Duty Administrative Review, 70 FR 3904 (Jan 27, 2005). On March 18, 2005, Louis Dreyfus withdrew its request for a changed circumstances review.

Rescission of Changed Circumstances Review

Section 351.213(d)(1) of the Department's regulations provides that the Department will rescind an administrative review if a party that requested a review withdraws the request within 90 days of the date of publication of the notice of initiation of the requested review. (19 CFR 351.213(d)(1) (2004)) The Department's rules regarding review withdrawals do not specifically reference changed circumstances administrative reviews. In this case, Louis Dreyfus requested withdrawal of its changed circumstances review within ninety days of the review being initiated, the time period the Department generally considers reasonable for requesting the withdrawal of administrative reviews. Therefore, the Department has accepted Louis Dreyfus' withdrawal request in this case as timely.

The Department is now rescinding this changed circumstances antidumping duty administrative review. U.S. Customs and Border Protection will continue to suspend liquidation, as appropriate, of entries of subject merchandise at the appropriate cash deposit rate for entries of FCOJ from Brazil.

This notice also serves as a reminder to parties subject to administrative protective order (APO) of their responsibility concerning the disposition of proprietary information disclosed under APO in accordance with 19 CFR 351.305(a)(3). Timely written notification of return or destruction of APO materials or conversion to judicial protective order is hereby requested. Failure to comply with the regulation and the terms of an APO is a sanctionable violation.

This determination is issued and published in accordance with sections 751(a)(1) and 777(i)(1) of the Tariff Act of 1930, as amended.

Dated: April 5, 2005.
Joseph A. Spetrini,
Acting Assistant Secretary for Import Administration.

[FR Doc. E5-1711 Filed 4-12-05; 8:45 am]

BILLING CODE 3510-DS-S